SURFACE TRANSPORTATION BOARD

[Docket No. AB 1244X]

Columbia & Cowlitz Railway, LLC—Abandonment Exemption—in Cowlitz County, Wash

Columbia & Cowlitz Railway, LLC (CLC), has filed a verified notice of exemption under 49 CFR pt. 1152 subpart F—Exempt Abandonments to abandon an approximately 7-mile rail line between milepost 1.5 at Longview and milepost 8.5 at Ostrander Junction, in Cowlitz County, Wash. (the Line).¹ The Line traverses United States Postal Service Zip Codes 98632 and 98636 and includes the Milco station at milepost 4.25 and the Rocky Point station at milepost 6.0.

¹ In a concurrently filed joint verified notice of exemption, CLC seeks to discontinue service over, and Patriot Woods Railroad, LLC, seeks to abandon, approximately 21.50-miles of connecting rail line between milepost 8.5 at Ostrander Junction and the end of the line at milepost 30, in Cowlitz County, Wash. See Columbia & Cowlitz Ry.—Discontinuance of Serv. Exemption—in Cowlitz Cty., Wash., Docket No. AB 1244 (Sub-No. 1X) and Patriot Woods R.R.—Aban. Exemption—in Cowlitz Cty., Wash., Docket No. AB 1243X.

CLC has certified that: (1) No local traffic has moved over the Line for at least two years; (2) any overhead traffic can be rerouted over other lines; (3) no formal complaint filed by a user of rail service on the Line (or by a state or local government entity acting on behalf of such user) regarding cessation of service over the Line either is pending with the Surface Transportation Board (Board) or with any U.S. District Court or has been decided in favor of a complainant within the two-year period; and (4) the requirements at 49 CFR 1105.7(c) (environmental report), 49 CFR 1105.11 (transmittal letter), 49 CFR 1105.12 (newspaper publication), and 49 CFR 1152.50(d)(1) (notice to governmental agencies) have been met.

As a condition to this exemption, any employee adversely affected by the abandonment shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on September 30, 2017, unless stayed pending reconsideration. Petitions to stay that do not involve environmental issues,² formal expressions of intent to file an OFA under 49 CFR 1152.27(c)(2),³ and interim trail use/rail banking requests under 49 CFR 1152.29 must be filed by September 8, 2017. Petitions to reopen or requests for public use conditions under 49 CFR 1152.28 must be filed by September 20, 2017, with the Surface Transportation Board, 395 E Street SW., Washington, DC 20423-0001.

² The Board will grant a stay if an informed decision on environmental issues (whether raised by a party or by the Board's Office of Environmental Analysis (OEA) in its independent investigation) cannot be made before the exemption's effective date. See Exemption of Out-of-Serv. Rail Lines, 5 I.C.C.2d 377 (1989). Any request for a stay should be filed as soon as possible so that the Board may take appropriate action before the exemption's effective date.

³ Each OFA must be accompanied by the filing fee, which is currently set at $1,700. See 49 CFR 1002.2(f)(25). Effective September 1, 2017, the fee will become $1,800. See Regulations Governing Fees for Servs. Performed in Connection with Licensing & Related Servs.—2017 Update, EP 542 (Sub-No. 25), slip op. App. C at 20 (STB served July 28, 2017).

A copy of any petition filed with the Board should be sent to Melanie B. Yasbin, Law Offices of Louis E. Gitomer, LLC, 600 Baltimore Avenue, Suite 301, Towson, MD 21204.

If the verified notice contains false or misleading information, the exemption is void ab initio.

CLC has filed a combined environmental and historic report that addresses the effects, if any, of the abandonment on the environment and historic resources. OEA will issue an environmental assessment (EA) by September 5, 2017. Interested persons may obtain a copy of the EA by writing to OEA (Room 1100, Surface Transportation Board, Washington, DC 20423-0001) or by calling OEA at (202) 245-0305. Assistance for the hearing impaired is available through the Federal Information Relay Service at (800) 877-8339. Comments on environmental and historic preservation matters must be filed within 15 days after the EA becomes available to the public.

Environmental, historic preservation, public use, or trail use/rail banking conditions will be imposed, where appropriate, in a subsequent decision.

Pursuant to the provisions of 49 CFR 1152.29(e)(2), CLC shall file a notice of consummation with the Board to signify that it has exercised the authority granted and fully abandoned the Line. If consummation has not been effected by CLC's filing of a notice of consummation by August 31, 2018, and there are no legal or regulatory barriers to consummation, the authority to abandon will automatically expire.

Board decisions and notices are available on our Web site at WW.STB.GOV.

Decided: August 28, 2017.
By the Board, Rachel D. Campbell, Director, Office of Proceedings.
Marline Simeon,
Clearance Clerk.

[FR Doc. 2017-18484 Filed 8-30-17; 8:45 am]

BILLING CODE 4915-01-P